DEPARTMENT OF THE INTERIOR

National Park Service

[NPS-WASO-NAGPRA-NPS0036256; PPWOCRADN0-PCU00RP14.R50000]

Notice of Inventory Completion: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) has completed an inventory of human remains and associated funerary objects and has determined that there is a cultural affiliation between the human remains and associated funerary objects and Indian Tribes or Native Hawaiian organizations in this notice. The human remains and associated funerary objects were removed from: Bourbon, Boone, Bracken, Fayette, Greenup, Harrison, Jessamine, Mercer, Mason, and Union counties, KY.

DATES: Repatriation of the human remains and associated funerary objects in this notice may occur on or after August 28, 2023.

ADDRESSES: Celise Fricker, William S. Webb Museum of Anthropology, University of Kentucky, 1020 Export Street, Lexington, KY 40504, telephone (859) 257-5124, email celise.fricker@uky.edu.

SUPPLEMENTARY INFORMATION: This notice is published as part of the National Park Service's administrative responsibilities under NAGPRA. The determinations in this notice are the sole responsibility of the WSWM. The National Park Service is not responsible for the determinations in this notice. Additional information on the determinations in this notice, including the results of consultation, can be found in the inventory or related records held by the WSWM.

Description

Human remains representing, at minimum, 69 individuals were removed from site 15BB12 (Buckner) in Bourbon, KY. The site was excavated in 1939 by the University of Kentucky Museum of Anthropology under contract to the Works Progress Administration (WPA). A Fort Ancient determination for these human remains is based on the presence of wall-trench houses, and diagnostic limestone/shell-tempered ceramics and projectile points. The 124 associated funerary objects are one semi-circular grooved lithic, two shell gorgets, 12 bird bone beads, 80 marginella shell beads, six shell disc beads, one limestone hammerstone, five projectile points, one incised triangular shell pendant, one imitation tooth cannel coal pendant, four limestone discoidals, five cylindrical shell beads, one bone needle, two bone awls, one perforated shell disc, one bone antler point, and one ceramic disc.

Human remains representing, at minimum, 12 individuals were removed from site 15BB13 (Larkin) in Bourbon, KY. The site was originally surveyed in 1936 and then excavated by Kentucky Heritage Council staff in 1986. A Fort Ancient determination for these human remains is based on the presence of ceramic vessel shapes (salt pans, colanders, globular jars) and `weeping eye' shell mask gorgets characteristic of Late Fort Ancient culture in the Central Bluegrass region. The 70 associated funerary objects are two flakes, one shell bead, five perforated animal teeth, one abrader, six shells, one copper tube bead, one triangular point, one cannel coal, 43 faunal remains, one charcoal, five projectile points, one lithic drill, one cannel coal pendant, and one botanical remain.

Human remains representing, at minimum, four individuals were removed from site 15BB15 (Layson) in Bourbon, KY. The site was originally surveyed and excavated in 1947 by University of Kentucky Museum of Anthropology staff. A Fort Ancient determination for these human remains is based on the presence of shell/limestone tempered ceramics characteristic of Fort Ancient occupations in the Central Bluegrass region. No associated funerary objects are present.

Human remains representing, at minimum, eight individuals were removed from site 15BB45 (New Field) in Bourbon, KY. The site was surveyed and surface-collected in 1977 by Hockensmith and Turnbow, in 1978 by Wayne Estes, and in 1991 by Estes, O'Malley, Harlin, Tune, and Pollack. In 1992, the site was excavated by the University of Kentucky Program for Cultural Resource Assessment. A Fort Ancient determination for these human remains is based on the presence of shell/limestone tempered ceramics characteristic of Fort Ancient occupations in eastern Kentucky and on C14 dates. No associated funerary objects are present.

Human remains representing, at minimum, two individuals were removed from site 15BB59 (Paris Quarry) in Bourbon, KY. These human remains were recovered from a quarry after a bulldozer exposed them, and they were subsequently donated to the WSWM by a private collector. A Fort Ancient determination for these human remains is based on the light wear to the teeth and their physical proximity to recorded Fort Ancient sites. No associated funerary objects are present.

Human remains representing, at minimum, 55 individuals were removed from site 15BE06 (Petersburg) in Boone, KY. The site was initially excavated by the University of Kentucky Program for Cultural Resource Assessment in 1990 and, subsequently, human remains belonging to one individual were recovered during floatation analyses. The site was excavated as a salvage project in 2004 by the Kentucky Archaeological Survey and volunteers, when the basement for a new house was constructed on the boundary of the earlier and later villages, though not near previously identified cemeteries. A Fort Ancient determination for these human remains is based on the presence of shell-tempered ceramics and contact-period burial associations. The 542 associated funerary objects are five bone drifts, nine bone tools, two drilled faunal incisor pendants, one ceramic gorget, 333 shell beads, one faunal mandible, one discoidal, three celts, 45 copper/brass beads with cordage, one abrading stone, two large bifaces, one shell disc, one wolf maxilla, one stone bead, two ceramic vessels, 10 triangular points, one bi-pointed copper awl, one biface-drill, nine bifaces, 10 lithic projectile points, two antler projectile points, 24 lithic tools, two deer skulls, one bone fish hook, one copper cross, 12 copper tubes with cordage, four raven bones, one bird beak with copper staining, 21 shell valves, one vasiform pipe, one effigy head pipe, two cores, nine bone tube beads, 17 copper clips, two marginella shell beads, one piece of horn coral, one drilled shell hoe, and one drilled bear canine.

Human remains representing, at minimum, 35 individuals were removed from site 15BE08 (McCabe Mound) in Boone, KY. The site was excavated in 1939 by the University of Kentucky Museum of Anthropology under contract to the WPA. A Fort Ancient determination for these human remains is based on the presence of diagnostic limestone/shell-tempered ceramics and projectile points, and on C14 dates of 830 +/−90 BP. The 38 associated funerary objects are three bivalve shells, 23 ceramic sherds, two limestone bars, one fragment of a platform pipe, two celts, three projectile points, one claw, one bone drift, one chert drill, and one cut antler.

Human remains representing, at minimum, one individual were removed from site 15BE22 (Cleek Village) in Boone, KY. The site was excavated in 1939 by the University of Kentucky Museum of Anthropology under contract to the WPA. A Fort Ancient determination for these human remains is based on the presence of diagnostic limestone/shell-tempered ceramics and projectile points, and on C14 dates of 830 +/−90 BP. No associated funerary objects are present.

Human remains representing, at minimum, one individual were removed from site 15BK02 (Snag Creek/Sharp/Bradford) in Bracken, KY. The site was excavated in 1984 by members of the William S. Webb Archaeological Society and University of Kentucky students. A Fort Ancient determination for these human remains is based on the presence of diagnostic Fox Farm and Madisonville ceramics and triangular projectile points, and on C14 dates suggesting an occupation between 1400 and 1500 CE. No associated funerary objects are present.

Human remains representing, at minimum, 20 individuals were removed from site 15BK04 (Augusta) in Bracken, KY. These human remains were donated to WSWM by Louie Edwards after he excavated several stone box burials while digging a basement at his house. A Fort Ancient determination for these human remains is based on the presence of stone box burials, weeping-eye shell gorgets, and shell-tempered sherds from a known Fort Ancient village site, and on C14 dates ranging from 1290 to 1640 CE. No associated funerary objects are present.

Human remains representing, at minimum, two individuals were removed from site 15FA13 (University of Kentucky Stoll Field) in Fayette, KY. This site was excavated in 1936 by the University of Kentucky Museum of Anthropology, when a new track was cut at Stoll Field, on the University of Kentucky campus in Lexington. A Fort Ancient determination for these human remains is based on the light tooth wear and their regional location. No associated funerary objects are present.

Human remains representing, at minimum, two individuals were removed from site 15FA22 (Water Pump Station) in Fayette, KY. This site was inadvertently discovered during construction of Lexington Water Company's Kentucky River Pumping Station. In response, the police requested an excavation by the University of Kentucky Department of Anthropology. A Fort Ancient determination for these human remains is based on associated shell-tempered sherds (Madisonville horizon) and burial form. No associated funerary objects are present.

Human remains representing, at minimum, one individual were removed from site 15GP00 (Unnamed) in Greenup, KY. The human remains were donated to the University of Kentucky Museum of Anthropology by a private collector. A Fort Ancient determination for these human remains is based on the light tooth wear, the cranial modification, and their regional location. No associated funerary objects are present.

Human remains representing, at minimum, 341 individuals were removed from site 15GP22 (Hardin Village) in Greenup, KY. The site was excavated in 1939 by the University of Kentucky Museum of Anthropology under contract to the WPA. A Fort Ancient determination for these human remains is based on the presence of diagnostic shell/limestone-tempered ceramics, projectile points, wall-trench houses, and shell gorgets. The 1,998 associated funerary objects are five celts, three hematite pebbles, six hammerstones, five lithic knives, two cannel coal objects, one hematite object, one stone ring, five lithic drills, one sub-rectangular bar, two grinding stones, one whet stone, two lithic hoes, four pipes, 17 scrapers, 90 projectile points, two bone spatulas, one antler flaker, three antler projectile points, two worked antler points, one bone projectile point, one dog tooth, one bone flaker, one bone fish hook, one bone pin, one bone pendant, 15 bone drifts, 30 bone tubes, eight worked faunal bones, 18 bone awls, six bone scrapers, 46 bored faunal teeth, 110 bone beads, eight potsherds, 12 complete ceramic pots, 11 copper tubes, 13 copper sheet fragments, two copper pendants, seven copper coils, one copper band, 159 copper beads, two copper bracelets, 856 shell beads, 136 shell disc beads, 79 shell pendants, 276 marginella beads, one conch, nine shells, nine shell gorgets, three conch gorgets, 16 drilled shells, one shell mask, four worked shells, and one shell spoon.

Human remains representing, at minimum, five individuals were removed from site 15HR21/15HR22 (Florence) in Harrison, KY. This site was first surveyed in 1987 by UK archeologists and human remains were surface-collected. The site was then excavated between 1989 and 1990 by the Kentucky Archaeology Survey and Kentucky Heritage Council. A Fort Ancient determination for these human remains is based on diagnostic ceramic types, triangular projectile points, and C14 dates. No associated funerary objects are present.

Human remains representing, at minimum, two individuals were removed from site 15JS95 (Unnamed) in Jessamine, KY. The site was excavated by the Office of State Archaeology and the University of Kentucky Museum of Anthropology staff in 1987. A Fort Ancient determination for these human remains is based on the light tooth wear, the cranial modification, and the proximity of the burial to other Fort Ancient sites. No associated funerary objects are present.

Human remains representing, at minimum, two individuals were removed from site 15ME62 (Dry Branch Creek) in Mercer, KY. This site was first surveyed in 1995 and 1996 during planning for a bridge replacement. Excavation followed in 1998, as part of a Phase III mitigation project undertaken by Wilbur Smith Associates. A Fort Ancient determination for these human remains is based on diagnostic ceramic types, triangular projectile points, and C14 dates. No associated funerary objects are present.

Human remains representing, at minimum, 10 individuals were removed from site 15MS01 (Fox Farm/Fox Field) in Mason, KY. This site was first surveyed, surface collected and excavated by E.S. Maxwell and William S. Webb between 1920 and 1930, and all materials were donated to the University of Kentucky Museum of Anthropology. In 1969, an excavation by Maysville Community College students took place. The excavated materials from that excavation were initially donated to the Kentucky Gateway Museum Center; in 2009, they were donated to the WSWM. Additional donations to the WSWM were made by private collectors in 1960, 1991, and 2018. A Fort Ancient determination for these human remains is based on diagnostic ceramic types, triangular projectile points, and marine shell gorgets. The two associated funerary objects are one engraved rattlesnake motif shell gorget, and one large copper tube bead.

Human remains representing, at minimum, one individual were removed from site 15MS47 (Unnamed) in Mason, KY. This mound site was disturbed by construction activity in 1979. Ancestral remains were removed by the construction crew and recovered by WSWM personnel during an investigation of the site. A Fort Ancient determination for these human remains is based on burial form and their proximity to other Fort Ancient sites. No associated funerary objects are present.

Human remains representing, at minimum, one individual were removed from site 15UN30 (Unnamed) in Union, KY. This site was excavated by the University of Kentucky Museum of Anthropology in 1969. A Fort Ancient determination for these human remains is based on diagnostic shell-tempered ceramics and projectile points. No associated funerary objects are present.

Human remains representing, at minimum, six individuals were removed from site 15UN37 (Unnamed) in Union, KY. These human remains were donated to WSWM by a private collector. A Fort Ancient determination for these human remains is based on the proximity of site to other Fort Ancient sites in Union County. No associated funerary objects are present.

Human remains representing, at minimum, one individual were removed from site 15UN39 (Unnamed) in Union, KY. This site was excavated by the University of Kentucky Museum of Anthropology in 1969. A Fort Ancient determination for these human remains is based on diagnostic shell-tempered ceramics and projectile points. No associated funerary objects are present.

Human remains representing, at minimum, two individuals were removed from site 15UN42 (Unnamed) in Union, KY. This site was excavated by the University of Kentucky Museum of Anthropology in 1969. A Fort Ancient determination for these human remains is based on diagnostic shell-tempered ceramics and projectile points. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographical, historical, linguistic, and oral traditional.

Determinations

Pursuant to NAGPRA and its implementing regulations, and after consultation with the appropriate Indian Tribes and Native Hawaiian organizations, the WSWM has determined that:

• The human remains described in this notice represent the physical remains of 583 individuals of Native American ancestry.

• The 2,774 objects described in this notice are reasonably believed to have been placed with or near individual human remains at the time of death or later as part of the death rite or ceremony.

• There is a relationship of shared group identity that can be reasonably traced between the human remains and associated funerary objects described in this notice and the Absentee-Shawnee Tribe of Indians of Oklahoma; Eastern Shawnee Tribe of Oklahoma; and the Shawnee Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 28, 2023. If competing requests for repatriation are received, the WSWM must determine the most appropriate requestor prior to repatriation. Requests for joint repatriation of the human remains and associated funerary objects are considered a single request and not competing requests. The WSWM is responsible for sending a copy of this notice to the Indian Tribes identified in this notice.

Authority: Native American Graves Protection and Repatriation Act, 25 U.S.C. 3003, and the implementing regulations, 43 CFR 10.9, 10.10, and 10.14.

Melanie O'Brien,
Manager, National NAGPRA Program.

[FR Doc. 2023-16068 Filed 7-27-23; 8:45 am]

BILLING CODE 4312-52-P